ENVIRONMENTAL PROTECTION AGENCY

[EPA-HQ-OEJECR-2024-0235; FRL-12020-01-OEJECR]

Agency Information Collection Activities; Proposed Information Collection Request; Comment Request; Environmental Justice Community Change Grant Program: Post-Award Reporting

AGENCY: Environmental Protection Agency (EPA).

ACTION: Notice.

SUMMARY: The Environmental Protection Agency (EPA) is planning to submit an Information Collection Request (ICR), Environmental Justice Community Change Grant Program: Post-Award Reporting (EPA ICR Number 7781.01, OMB Control Number 2035-NEW) to the Office of Management and Budget (OMB) for review and approval in accordance with the Paperwork Reduction Act (PRA). Before doing so, EPA is soliciting public comments on specific aspects of the proposed information collection as described below. This is a request for approval of a new collection. This document allows for 60 days for public comments.

DATES: Comments must be submitted on or before October 7, 2024.

ADDRESSES: Submit your comments, referencing Docket ID Number EPA-HQ-OEJECR-2024-0235, to EPA online using https://www.regulations.gov (our preferred method), by email to Docket_OMS@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Aarti Iyer, Office of the Chief Financial Officer, Environmental Protection Agency, 1200 Pennsylvania Ave. NW, Washington, DC 20460; telephone number: (202) 564-0214; email address: iyer.aarti@epa.gov.

SUPPLEMENTARY INFORMATION: This is a request for approval of a new collection. An agency may not conduct or sponsor and a person is not required to respond to a collection of information unless it displays a currently valid OMB control number.

This document allows 60 days for public comments. Supporting documents, which explain in detail the information that the EPA will be collecting, are available in the public docket for this ICR. The docket can be viewed online at https://www.regulations.gov or in person at the EPA Docket Center, WJC West, Room 3334, 1301 Constitution Ave. NW, Washington, DC. The telephone number for the Docket Center is (202) 566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register document to announce the submission of the ICR to OMB and the opportunity to submit additional comments to OMB.

Abstract: The EPA makes competitive financial assistance awards to support projects that tackle environmental, public health, and energy challenges across the country. Historically, these investments have not reached communities and groups who are overburdened by the effects of pollution, environmental hazards, and climate change. To help get resources and funding to underserved and overburdened communities, the Inflation Reduction Act (IRA) created the Environmental and Climate Justice Block Grant Program (ECJP)—the largest investment in environmental and climate justice in U.S. history—when it was signed into law by President Biden on August 16, 2022. The Community Change Grants (CCG) are the final and most comprehensive piece of EPA's implementation of ECJP IRA funding. This CCG program will provide funding to communities and their partners to design, develop, and implement multi-faceted, community-driven projects to protect public health and the environment. With this ICR, EPA seeks authorization to collect information to track progress made by the CCG grantees. Collection of this information enables EPA to assess and manage this program, which ensures responsible stewardship of public funds; rigorous evidence-based learning and improvement; and transparent accountability to the American public.

Form numbers: None.

Respondents/affected entities: Recipients of financial assistance awards from the EJCCG program.

Respondent's obligation to respond: Mandatory for grant recipients as per reporting requirements included in 2 CFR parts 200 and 1500.

Estimated number of respondents: 170 grantees.

Frequency of response: One work plan, quarterly progress reports per year the grant is active; one final report.

Total estimated burden: 18,133 hours per year.

Total estimated cost: $614,357 per year.

Changes in the estimates: This is a new collection; therefore there is no change in burden.

Laura Ebbert,
Acting Deputy Assistant Administrator for Environmental Justice, Office of Environmental Justice and External Civil Rights.

[FR Doc. 2024-17308 Filed 8-5-24; 8:45 am]

BILLING CODE 6560-50-P